DEPARTMENT OF AGRICULTURE

National Institute of Food and Agriculture

Notice of Intent To Revise a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture (NIFA) intention to renew a currently approved information collection entitled, “4-H Youth Enrollment Report”.

DATES: Written comments on this notice must be received by December 20, 2016, to be assured of consideration. Comments received after that date will be considered to the extent practicable.

ADDRESSES: Written comments concerning this notice and requests for copies of the information collection may be submitted by any of the following methods: Email: rmartin@nifa.usda.gov; Fax: 202-720-0857; Mail: Office of Information Technology (OIT), NIFA, USDA, STOP 2216, 1400 Independence Avenue SW., Washington, DC 20250-2216

FOR FURTHER INFORMATION CONTACT: Robert Martin, eGovernment Program Leader; Email: rmartin@nifa.usda.gov.

SUPPLEMENTARY INFORMATION:

Title: 4-H Youth Enrollment.

OMB Number: 0524-0045.

Expiration Date of Current Approval: December 31, 2016.

Type of Request: Intent to seek approval for the extension of a currently approved information collection for three years.

Abstract: The mission of 4-H National Headquarters; National Institute of Food and Agriculture; United States Department of Agriculture (USDA); is to advance knowledge for agriculture, the environment, human health and well-being, and communities by creating opportunities for youth. 4-H is a complex national organization, led by 4-H National Headquarters, NIFA, USDA, with hundreds of educational curricula, activities, and events for youth ages 5 to 18. Programs originate at 106 land-grant universities (LGUs), and local programs are conducted and managed by some 3,000 professional Extension staff in 3,150 counties, with nearly 6 million youth enrolled each year. Over 500,000 volunteer leaders work directly with the 4-H youth.

The 1914 Smith-Lever Act created the Cooperative Extension System (CES) of the LGUs and their Federal partner, the Extension Service, now the National Institute of Food and Agriculture (NIFA), USDA. 4-H was already well-established and became the first operating part of the new extension work. The Smith-Lever Act stipulated that “It shall be the duty of said colleges, annually, on or about the first day of January, to make to the Governor of the State in which it is located a full and detailed report of its operations in extension work as defined in this Act . . . a copy of which report shall be sent to the Secretary of Agriculture.” As a result of this requirement, annually each county sends their state 4-H office an electronic aggregated summary of their 4-H enrollment.

Information collected in the 4-H Youth Enrollment Report includes youth enrollment totals by delivery mode, youth enrollment totals by type of 4-H activity, youth enrollment totals by school grade, youth enrollment totals by gender, youth enrollment totals by place of residence, adult volunteer totals, youth volunteer totals, and youth enrollment totals by race and ethnicity.

Need and Use of the Information: The Annual 4-H Enrollment Report is the principal means by which the 4-H movement can keep track of its progress, as well as emerging needs, potential problems, and opportunities.

The information from this collection is used to report, as requested by the Congress or the Administration, on rural versus urban outreach, enrollment by race, youth participation in leadership, community service, etc. It also is used to determine market share or percentage of the youth of each state by age and place of residence who are enrolled in the 4-H youth development program. The annual 4-H Youth Enrollment Report also allows oversight of all reasonable efforts by staff and volunteers to reach underserved and minority groups.

Information also is available at http://frwebgate.access.gpo.gov/cgi-bin/leaving.cgi?from=leavingFR.html&log=linklog&to=http://www.national4-hheadquarters.gov/library/4h_stats.htm.

Estimate of Burden: The hour burden estimates have not been modified from the previous approval because there have been no significant changes to the collection.

Estimated Number of Respondents: 75.

Estimated Number of Responses per Respondent: 1.

Estimated Time per Response: 1 hour.

Estimated Total Annual Burden on Respondents: 75 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Done at Washington, DC, this day of October 12, 2016.
Jake Caldwell,
Chief of Staff, Research, Education, and Economics.

[FR Doc. 2016-25498 Filed 10-20-16; 8:45 am]

BILLING CODE 3410-22-P